SMALL BUSINESS ADMINISTRATION

[Disaster Declaration # 10022]

West Virginia Disaster Number WV-00002

AGENCY: U.S. Small Business Administration.

ACTION: Amendment 1.

SUMMARY: This is an amendment of the Presidential declaration of a major disaster for Public Assistance Only for the State of West Virginia (FEMA-1574-DR), dated February 1, 2005.

Incident: Severe storms, flooding, and landslides.

Incident Period: January 4, 2005, through January 25, 2005.

DATES: Effective Date: January 25, 2005.

Physical Loan Application Deadline Date: April 4, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the President's major disaster declaration for Private Non-Profit organizations in the State of West Virginia, dated February 1, 2005, is hereby amended to establish the incident period for this disaster as beginning January 4, 2005, and continuing through January 25, 2005.

All other information in the original declaration remains unchanged.

(Catalog of Federal Domestic Assistance Number 59008)

Herbert L. Mitchell,
Associate Administrator for Disaster Assistance.

[FR Doc. 05-4783 Filed 3-10-05; 8:45 am]

BILLING CODE 8025-01-P